DEPARTMENT OF ENERGY

Federal Energy Regulatory Commission

[Docket No. EC02-54-000, et al.]

The New Power Company, et al.; Electric Rate and Corporate Regulation Filings

March 4, 2002.

Take notice that the following filings have been made with the Commission. Any comments should be submitted in accordance with Standard Paragraph E at the end of this notice.

1. The New Power Company, NewPower Holdings, Inc., Centrica plc

[Docket No. EC02-54-000]

Take notice that on February 28, 2002, The New Power Company, its parent company NewPower Holdings, Inc. and Centrica plc, filed with the Federal Energy Regulatory Commission (Commission) a joint application pursuant to section 203 of the Federal Power Act for authorization of a disposition of jurisdictional facilities whereby Centrica plc will indirectly acquire NewPower Holdings, Inc. Applicants request confidential treatment of Exhibit I, pursuant to 18 CFR 388.112 of the Commission's regulations, for the written instruments associated with the proposed disposition. Further, Applicants respectfully request that the Commission approve this application on an expedited basis by March 27, 2002.

Comment Date: March 21, 2002.

2. Shanghai WEI-Gang Energy Company Ltd.

[Docket No. EG02-70-000]

Take notice that on February 19, 2002, Shanghai WEI-Gang Energy Company Ltd. (Applicant) tendered for filing with the Federal Energy Regulatory Commission (Commission) an amended application for determination of exempt wholesale generator status pursuant to section 32(a)(1) of the Public Utility Holding Company Act of 1935. The applicant states that it is a Sino-foreign cooperative joint venture that is engaged directly and exclusively in developing, owning, and operating a gas-fired 50 MW simple cycle power plant in Shanghai, China, which will be an eligible facility.

Comment Date: March 25, 2002.

3. American Transmission Company LLC

[Docket No. ER02-529-001]

Take notice that on February 27, 2002, American Transmission Company LLC (ATCLLC) tendered for filing, in compliance with the Federal Energy Regulatory Commission's (Commission) January 30, 2002 order, a Revised Generation-Transmission Interconnection Agreement with Cloverland Electric Cooperative, which is designated as Revised Service Agreement No. 220. ATCLLC requests an effective date of June 29, 2001.

Comment Date: March 20, 2002.

4. RAMCO, Inc.

[Docket No. ER01-1916-001]

Take notice that on February 28, 2002, RAMCO, Inc. (RAMCO) filed a Notice of Change in Status with the Federal Energy Regulatory Commission (Commission) in accordance with the delegated letter order issued June 26, 2001 in RAMCO, Inc., Docket No. ER01-1916-000, accepting for filing RAMCO's marked-based rate tariff. The Notice of Change in Status reports that PG&E Dispersed Power Corporation will purchase 100% of the ownership shares of RAMCO. Comment Date: March 21, 2002.

5. Midwest Independent Transmission System Operator, Inc.

[Docket No. ER02-1164-000]

Take notice that on February 28, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by Dayton Power and Light Company—DP&L Power Services.

A copy of this filing was sent to Dayton Power and Light Company—DP&L Power Services.

Comment Date: March 21, 2002.

6. Connexus Energy

[Docket No. ER02-1165-000]

Take notice that on February 28, 2002, Connexus Energy submitted for filing with the Federal Energy Regulatory Commission (Commission) revised sheets to Connexus Energy's Electric Rate Schedule FERC No. 1. Connexus Energy states that the revised sheets effect minor rate changes under Connexus Energy's contract with Elk River Municipal Utilities.

Connexus Energy requests waiver of the Commission's notice requirement to allow a March 1, 2002 effective date.

Comment Date: March 21, 2002.

7. Midwest Independent Transmission System Operator, Inc.

[Docket No. ER02-1167-000]

Take notice that on February 28, 2002, pursuant to section 205 of the Federal Power Act and section 35.13 of the Federal Energy Regulatory Commission's (Commission) Regulations, 18 CFR 35.13, the Midwest Independent Transmission System Operator, Inc. (Midwest ISO) submitted for filing a Service Agreements for the transmission service requested by Indianapolis Power & Light Company.

A copy of this filing was sent to Indianapolis Power & Light Company. Comment Date: March 21, 2002.

8. Midwest Independent Transmission System Operator, Inc.

[Docket No. ER02-1168-000]

Take notice that on February 28, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by New Power Company.

A copy of this filing was sent to New Power Company.

Comment Date: March 21, 2002.

9. Midwest Independent Transmission System Operator, Inc.

[Docket No. ER02-1169-000]

Take notice that on February 28, 2002, pursuant to section 205 of the Federal Power Act and section 35.13 of the Federal Energy Regulatory Commission's (Commission) regulations, 18 CFR 35.13, the Midwest Independent Transmission System Operator, Inc. (Midwest ISO) submitted for filing a Service Agreements for the transmission service requested by Western Area Power Administration-UGP Marketing.

A copy of this filing was sent to Western Area Power Administration-UGP Marketing.

Comment Date: March 21, 2002.

10. Midwest Independent Transmission System Operator, Inc.

[Docket No. ER02-1170-000]

Take notice that on February 28, 2002, pursuant to section 205 of the Federal Power Act and section 35.13 of the Federal Energy Regulatory Commission's (Commission) Regulations, 18 CFR 35.13, the Midwest Independent Transmission System Operator, Inc. (Midwest ISO) submitted for filing a Service Agreements for the transmission service requested by Minnkota Power Cooperative.

A copy of this filing was sent to Minnkota Power Cooperative.

Comment Date: March 21, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6101 Filed 3-13-02; 8:45 am]

BILLING CODE 6717-01-P